DEPARTMENT OF JUSTICE

[OMB No. 1121-NEW]

Agency Information Collection Activities; Proposed eCollection eComments Requested; New Collection: National Prisoner Statistics Program: Coronavirus Pandemic Supplement

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 30 days until March 11, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection.

(2) The Title of the Form/Collection: National Prisoner Statistics program: Coronavirus Pandemic Supplement (NPS-CPan).

(3) The agency form number, if any, and the applicable component of the Department sponsoring the collection: The form number is NPS-CPan. The applicable component within the Department of Justice is the Bureau of Justice Statistics, in the Office of Justice Programs.

(4) Affected public who will be asked or required to respond, as well as a brief abstract: Respondents will be staff from state departments of correction and the Federal Bureau of Prisons. The NPS-CPan survey will request information on the prison response to the coronavirus disease (COVID-19) between March 1, 2020 and February 28, 2021, including: Monthly counts of admissions and stock populations in all publicly and privately operated facilities within each state, the total number of persons who received expedited release from prison due to the COVID-19 pandemic and criteria for deciding which prisoners received expedited release, the number of tests performed on prisoners, the number of unique prisoners testing positive for COVID-19, the sex and race/Hispanic origin distributions of prisoners testing positive for COVID-19, the age, sex, and race/Hispanic origin of prisoners dying from COVID-19, the number of pregnant female prisoners who died from COVID-19, the date of first vaccination of either staff or prisoners by the department of corrections, the number of staff and prisoners receiving at least one dose of the COVID-19 vaccine as of February 28, 2021, the number of prison staff who tested positive for or died from COVID-19, and policy questions on the use of common mitigation tactics in facilities to identify persons with the disease and prevent its spread, and to prioritize vaccinations.

(5) An estimate of the total number of respondents and the amount of time estimated for an average respondent to respond: BJS estimates that responding to the NPS-CPan survey will require an average of 2.5 hours, based on feedback from respondents to a cognitive test of the data collection.

(6) An estimate of the total public burden (in hours) associated with the collection: There is an estimated 127.5 total burden hours associated with this collection.

If additional information is required contact: Melody Braswell, Department Clearance Officer, United States Department of Justice, Justice Management Division, Policy and Planning Staff, Two Constitution Square, 145 N Street NE, 3E.405A, Washington, DC 20530.

Dated: February 4, 2021.
Melody Braswell,
Department Clearance Officer for PRA, U.S. Department of Justice.

[FR Doc. 2021-02663 Filed 2-8-21; 8:45 am]

BILLING CODE 4410-18-P